DEPARTMENT OF COMMERCE

National Oceanic and Atmospheric Administration

[RTID 0648-XB593]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ). Due to ongoing public safety considerations related to COVID-19, this meeting will be conducted entirely by webinar.

DATES: The webinar meeting will be held on Tuesday, Wednesday, and Thursday, December 7, 8, and 9, 2021, beginning at 9:30 a.m. on Tuesday and 9 a.m. on Wednesday and Thursday.

ADDRESSES: All meeting participants and interested parties can register to join the webinar at https://attendee.gotowebinar.com/register/3955600152224819215.

Council address: New England Fishery Management Council, 50 Water Street, Mill 2, Newburyport, MA 01950; telephone (978) 465-0492; www.nefmc.org.

FOR FURTHER INFORMATION CONTACT: Thomas A. Nies, Executive Director, New England Fishery Management Council; telephone: (978) 465-0492, ext. 113.

SUPPLEMENTARY INFORMATION:

Agenda

Tuesday, December 7, 2021

After introductions and brief announcements, the Council will receive reports on recent activities from its Chair and Executive Director, the Greater Atlantic Regional Fisheries Office (GARFO) Regional Administrator, the Northeast Fisheries Science Center (NEFSC) Director, the NOAA Office of General Counsel, the Mid-Atlantic Fishery Management Council liaison, staff from the Atlantic States Marine Fisheries Commission (ASMFC), and representatives from the U.S. Coast Guard and NOAA's Office of Law Enforcement. Next, the Council will receive a briefing from NOAA General Council on disclosure of financial interests and voting recusal regulations for Regional Fishery Management Council members.

Following the lunch break, the Council will go into the Habitat Committee report and: (1) Approve a revised Council policy on wind energy; and (2) receive an update on other ongoing habitat-related work. The Council also will receive a presentation from the Bureau of Ocean Energy Management (BOEM) on Atlantic offshore wind leasing activity and have an opportunity to ask questions. The Spiny Dogfish Committee report will be next. The Council will review results of recent spiny dogfish meetings and consider appropriate actions, including: (1) Committee and Mid-Atlantic Council recommendations to increase the federal trip limit to 7,500 pounds; and (2) potentially prioritizing a 2022 framework action to consider additional trip limit changes pending the results of the Spiny Dogfish Research Track Assessment. Then, the Council will receive a progress report on work being done by the Council Coordination Committee (CCC) Subcommittee on Area-Based Management to assist the CCC in responding to the 30x30 initiative in the draft White House report titled “Conserving and Restoring America the Beautiful.” The Council will close out the day by reviewing and approving a Council comment letter responding to NOAA's request for input on the “Conserving and Restoring America the Beautiful” report.

Wednesday, December 8, 2021

The Council will begin with a presentation from GARFO on the NOAA Fisheries outreach process for development of bycatch reduction measures to reduce takes of sea turtles in trawl fisheries. Next, the Northeast Fisheries Science Center will present an overview of the 2021 Management Track Stock Assessments Peer Review for Gulf of Maine cod and Georges Bank cod. The Scientific and Statistical Committee (SSC) report will follow. The Council will receive SSC recommendations on overfishing limits (OFLs) and acceptable biological catches (ABCs) for: (1) Atlantic sea scallops for fishing years 2022 and defaults for 2023; (2) Georges Bank cod and Gulf of Maine cod for fishing years 2022-24; (3) Gulf of Maine and Georges Bank haddock for 2022; and (4) white hake for fishing year 2022. The Council then will receive a report on the Transboundary Management Guidance Committee's November 4, 2021 intersessional meeting. After that, members of the public will have the opportunity to speak during an open comment period on issues that relate to Council business but are not included on the published agenda for this meeting. The Council asks the public to limit remarks to 3-5 minutes. These comments will be received through the webinar. A guide for how to publicly comment through the webinar is available on the Council website at https://s3.amazonaws.com/nefmc.org/NEFMC-meeting-remote-participation_generic.pdf.

Following the lunch break, the Council will receive the Groundfish Committee report, which will focus on final action for Framework Adjustment 63 to the Northeast Multispecies (Groundfish) Fishery Management Plan (FMP). This framework includes: (1) 2022 total allowable catches for U.S./Canada shared resources on Georges Bank (GB), which the Council approved during its September 2021 meeting; (2) 2022-23 specifications for Georges Bank yellowtail flounder; (3) 2022-24 specifications for Georges Bank cod and Gulf of Maine cod; (4) possible adjustment of 2022 specifications for Georges Bank and Gulf of Maine haddock; (5) adjustment of 2022 specifications for white hake based on rebuilding plan; (6) additional measures to promote stock rebuilding; and (7) alternatives for setting groundfish default specifications. The Council then will adjourn for the day.

Thursday, December 9, 2021

The Council will begin the third day of its meeting with the Scallop Committee report. The Council will take final action on Framework Adjustment 34 to the Atlantic Sea Scallop FMP, which includes 2022 fishery specifications, 2023 default specifications, and the inclusion of measures that are expected to be available under Amendment 21 to the FMP, which currently is under review by NOAA Fisheries. Additionally, the Council will receive: (1) A draft report on the evaluation of the scallop fishery's rotational area management program; and (2) an update on the Scallop Survey Working Group's activities. Following the conclusion of scallop business, the Council will hear remarks from NOAA Fisheries Assistant Administrator Janet Coit, who will introduce herself to the Council in her new role as head of the National Marine Fisheries Service and provide the Council with an opportunity to ask questions.

After the lunch break, the Council will discuss and take final action on 2022 Council Priorities for all fishery management plans and other Council responsibilities. After this discussion, the Council will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is being conducted entirely by webinar. Requests for auxiliary aids should be directed to Thomas A. Nies (see ADDRESSES) at least 5 days prior to the meeting date.

Authority: 16 U.S.C. 1801 et seq.

Dated: November 15, 2021.
Tracey L. Thompson,
Acting Deputy Director, Office of Sustainable Fisheries, National Marine Fisheries Service.

[FR Doc. 2021-25156 Filed 11-17-21; 8:45 am]

BILLING CODE 3510-22-P